DEPARTMENT OF THE INTERIOR

Bureau of Land Management

[ID-130-1430-EU; DB-G06-1007; IDI-31763]

Notice of Realty Action; Non-Competitive Sale of Public Land, Idaho

AGENCY: Bureau of Land Management, Interior.

ACTION: Notice of Realty Action.

SUMMARY: A 20.69 acre parcel of public land in Owyhee County, Idaho is being considered for direct (non-competitive) sale to Robert G. Bonnell, Allen H. Bonnell, and A. Lorraine Bjork under the provisions of the Federal Land Policy Management Act of 1976, at no less than the appraised fair market value.

DATES: Comments must be received by January 2, 2007.

ADDRESSES: Address all comments concerning this notice to Kelley Moore, BLM, Owyhee Field Office, 20 1st Avenue West, Marsing, Idaho 83639.

FOR FURTHER INFORMATION CONTACT: Kelley Moore, Realty Specialist, at the above address or phone (208) 896-5917.

SUPPLEMENTARY INFORMATION: The following described public land in Owyhee County, Idaho, has been examined and found suitable for sale utilizing direct sale procedures under the authority of Section 203 and Section 209 of the Federal Land Policy and Management Act of 1976, (90 Stat. 2750, 43 U.S.C. 1713 and 1719):

Boise Meridian, Idaho

T. 6 S., R. 4 W.,

Sec. 11, lot 7.

The area described contains 20.69 acres in Owyhee County.

The 1999 BLM Owyhee Resource Management Plan identified this parcel of public land as suitable for disposal. On November 15, 2006, the above described land will be segregated from appropriation under the public land laws, including the mining laws, except the sale provisions of the Federal Land Policy and Management Act (FLPMA). The segregative effect will terminate upon issuance of a patent, publication in the Federal Register of a termination of the segregation, or August 13, 2007, whichever comes first.

The public land will not be offered for sale until January 16, 2007 at the appraised fair market value of $5,175.00. A copy of the approved appraisal is located at the above address. The patent, if issued, will be subject to the following terms, conditions and reservations: (1) A reservation to the United States for ditches and canals; (2) a right-of-way for continued public access; and (3) a Memorandum of Agreement between BLM, the sale proponents, and the Idaho State Historic Preservation Office.

This land is being offered by direct sale to Robert G. Bonnell, Allen H. Bonnell, and A. Lorraine Bjork, pursuant to 43 CFR 2711.3-3 to resolve inadvertent unauthorized occupancy of the public lands. The buildings that occupy the public lands have been in existence since the mid 1800's and were purchased by the Bonnell family at a sheriff's auction in 1929. It has been determined they are eligible for inclusion on the National Register of Historic Places. The historic value of the buildings could potentially be lost if they were removed from their current location, as removal would in effect destroy them and their value as a part of several historic mining eras.

In the event of a sale, the unreserved mineral interests will be conveyed simultaneously with the sale of the land. These unreserved mineral interests have been determined to have no known mineral value pursuant to 43 CFR 2720.2 (a). Acceptance of the sale offer will constitute an application for conveyance of those unreserved mineral interests. The purchaser will be required to pay a $50.00 non-refundable filing fee for conveyance of the available mineral interests. The purchaser will have 30 days from the date of receiving the sale offer to accept the offer and to submit a deposit of 20 percent of the purchase price and the $50.00 filing fee for conveyance of mineral interests. The purchaser must remit the remainder of the purchase price within 180 days from the date the sale offer is received. Payments must be by certified check, postal money order, bank draft or cashiers check payable to the U.S. Department of the Interior—BLM. Failure to meet conditions established for this sale will void the sale and any monies received will be forfeit.

Public Comments

For a period until January 2, 2007, interested parties and the general public may submit written comments to the BLM Owyhee Field Office at the address above. Comments, including names and street addresses of respondents, will be available for public review at the BLM Owyhee Field Office during regular business hours, except holidays. Individual respondents may request confidentiality. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

Any adverse comments will be reviewed by the BLM Idaho State Director, who may sustain, vacate, or modify this realty action and issue a final determination. In the absence of any objections, this realty action will become the final determination of the Department of the Interior.

(Authority: 43 CFR 2711.1-2(a))

Dated: November 3, 2006.
David Wolf,
Acting Owyhee Field Manager.

[FR Doc. E6-19236 Filed 11-14-06; 8:45 am]

BILLING CODE 4310-GG-P